DEPARTMENT OF THE INTERIOR

Fish and Wildlife Service

[FWS-HQ-IA-2013-N163: FXIA16710900000-134-FF09A30000]

Notice of Establishment of the Advisory Council on Wildlife Trafficking

AGENCY: U.S. Fish and Wildlife Service, Interior.

ACTION: Notice of establishment and request for nominees.

SUMMARY: The Secretary of the Interior (Secretary), after consultation with the Co-Chairs of the Presidential Task Force on Wildlife Trafficking (Task Force), is announcing the establishment of the Advisory Council on Wildlife Trafficking (Council) under the Federal Advisory Committee Act. The Council will make recommendations to the Task Force and provide it with ongoing advice and assistance.

The Department of the Interior is also seeking nominations for individuals to be considered as Council members.

DATES: Nominations must be received by August 13, 2013.

ADDRESSES: Send nominations to Mr. Bryan Arroyo, Assistant Director, International Affairs, U.S. Fish and Wildlife Service, 4401 N. Fairfax Drive, Arlington, VA 22203.

FOR FURTHER INFORMATION CONTACT: Mr. Bryan Arroyo, Designated Federal Officer, International Affairs, U.S. Fish and Wildlife Service, 4401 N. Fairfax Drive, Arlington, VA 22203; Bryan_Arroyo@fws.gov; Phone: (202) 208-6394; Fax (202) 208-5618.

SUPPLEMENTARY INFORMATION:

Council's Role

The Council will conduct its operations in accordance with the provisions of the Federal Advisory Committee Act (5 U.S.C. Appendix). It will report to the Task Force through the Secretary of the Interior or his/her designee and function solely as an advisory body. It will advise and make recommendations on issues relating to combating wildlife trafficking, including, but not limited to:

(1) Effective support for anti-poaching activities,

(2) Coordinating regional law enforcement efforts,

(3) Developing and supporting effective legal enforcement mechanisms, and

(4) Developing strategies to reduce illicit trade and reduce consumer demand for illegally traded wildlife, including protected species.

The Council will meet approximately 1-2 times annually, and at such time as designated by the Designated Federal Officer.

Nominating Potential Council Members

The Department of the Interior is seeking nominations for individuals to be considered as Council members. Nominations should include a resume providing contact information and an adequate description of the nominee's qualifications, including information that would enable the Department of the Interior to make an informed decision regarding meeting the membership requirements of the Council.

Requirements for Council Membership

The Council will consist of eight members. The Secretary or his/her designee, in consultation with the Secretary of State and the Attorney General or their designees, will select and appoint members of the Council. The appointments will be for 3-year terms, except initially the Secretary will appoint four members for 2-year terms and four members for 3-year terms in order to stagger appointments to retain institutional knowledge. The Secretary will designate one of the members as the Chair. Members must not be employees of the Federal Government. Membership must include knowledgeable individuals from the private sector, former governmental officials, nongovernmental organizations, and others who are in a position to provide expertise and support to the Task Force. No individual who is currently registered as a Federal lobbyist is eligible to serve as a member of the Council.

Certification

I hereby certify that the Advisory Council on Wildlife Trafficking is necessary and is in the public interest in connection with the performance of duties pursuant to the Department of the

Interior's authority under Executive Order 13648, “Combating Wildlife Trafficking,”

July 1, 2013.

Dated: July 24, 2013.
Sally Jewell,
Secretary of the Interior.

[FR Doc. 2013-18194 Filed 7-25-13; 11:15 am]

BILLING CODE 4310-55-P